DEPARTMENT OF VETERANS AFFAIRS

Compensation Cost-of-Living Adjustments for Service-Connected Benefits

AGENCY: Department of Veterans Affairs.

ACTION: Notice.

SUMMARY: As required by the Veterans' Compensation Cost-of-Living Adjustment Act of 2006, Public Law 109-361, the Department of Veterans Affairs (VA) is hereby giving notice of adjustments in certain benefit rates. These adjustments affect the compensation and dependency and indemnity compensation (DIC) programs.

DATES: These adjustments are effective December 1, 2006, the date provided by Public Law 109-361.

FOR FURTHER INFORMATION CONTACT: Lyric Collier, Program Analyst, Compensation and Pension Service (212A), Veterans Benefits Administration, Department of Veterans Affairs, 810 Vermont Avenue, NW., Washington, DC 20420, (202) 273-7212.

SUPPLEMENTARY INFORMATION: Section 2 of Public Law 109-361 provides for an increase in each of the rates in sections 1114, 1115(1), 1162, 1311, 1313, and 1314 of title 38, United States Code. VA is required to increase these benefit rates by the same percentage as increases in the benefit amounts payable under title II of the Social Security Act. In computing increased rates in the cited title 38 sections, fractions of a dollar are rounded down to the nearest dollar. The increased rates are required to be published in the Federal Register.

The Social Security Administration has announced that there will be a 3.3 percent cost-of-living increase in Social Security benefits. Therefore, applying the same percentage, the following rates for VA compensation and DIC programs will be effective December 1, 2006:

Disability Compensation (38 U.S.C. 1114)
Disability evaluation Percent | Monthly rate
10 | $115
20 | 225
30 | 348
40 | 501
50 | 712
60 | 901
70 | 1,135
80 | 1,319
90 | 1,483
100 | 2,471
(38 U.S.C. 1114(k) through (s)):
38 U.S.C. 1114(k) | 89; 3,075; 89; 4,313
38 U.S.C. 1114(l) | 3,075
38 U.S.C. 1114(m) | 3,392
38 U.S.C. 1114(n) | 3,860
38 U.S.C. 1114(o) | 4,313
38 U.S.C. 1114(p) | 4,313
38 U.S.C. 1114(r) | 1,851; 2,757
38 U.S.C. 1114(s) | 2,766
ADDITIONAL COMPENSATION FOR DEPENDENTS (38 U.S.C. 1115(1))
38 U.S.C. 1115(1):
38 U.S.C. 1115(1)(A) | $139
38 U.S.C. 1115(1)(B) | 240; 70
38 U.S.C. 1115(1)(C) | 94; 70
38 U.S.C. 1115(1)(D) | 112
38 U.S.C. 1115(1)(E) | 265
38 U.S.C. 1115(1)(F) | 222
CLOTHING ALLOWANCE (38 U.S.C. 1162)
$662 per year
DIC TO A SURVIVING SPOUSE (38 U.S.C. 1311)
Pay Grade:
E-1 | $1,067
E-2 | 1,067
E-3 | 1,067
E-4 | 1,067
E-5 | 1,067
E-6 | 1,067
E-7 | 1,104
E-8 | 1,165
E-9(1) | 1,215
W-1 | 1,128
W-2 | 1,172
W-3 | 1,207
W-4 | 1,276
O-1 | 1,128
O-2 | 1,165
O-3 | 1,246
O-4 | 1,319
O-5 | 1,452
O-6 | 1,637
O-7 | 1,768
O-8 | 1,941
O-9 | 2,076
O-10(2) | 2,276

(1) If the veteran served as sergeant major of the Army, senior enlisted advisor of the Navy, chief master sergeant of the Air Force, sergeant major of the Marine Corps, or master chief petty officer of the Coast Guard, the surviving spouse's monthly rate is $1,312.

(2) If the veteran served as Chairman or Vice Chairman of the Joint Chiefs of Staff, Chief of Staff of the Army, Chief of Naval Operations, Chief of Staff of the Air Force, Commandant of the Marine Corps, or Commandant of the Coast Guard, the surviving spouse's monthly rate is $2,443.

DIC to a Surviving Spouse (38 U.S.C. 1311(a) Through (d))
| Monthly rate
38 U.S.C. 1311(a) through (d):
38 U.S.C. 1311(a)(1) | 1,067
38 U.S.C. 1311(a)(2) | 228
38 U.S.C. 1311(b) | 265
38 U.S.C. 1311(c) | 265
38 U.S.C. 1311(d) | 126
DIC to Children (38 U.S.C. 1313)
38 U.S.C. 1313:
38 U.S.C. 1313(a)(1) | $452
38 U.S.C. 1313(a)(2) | 649
38 U.S.C. 1313(a)(3) | 846
38 U.S.C. 1313(a)(4) | 846; 162
SUPPLEMENTAL DIC TO CHILDREN (38 U.S.C. 1314)
38 U.S.C. 1314:
38 U.S.C. 1314(a) | $265
38 U.S.C. 1314(b) | 452
38 U.S.C. 1314(c) | 225

Approved: March 16, 2007.
Gordon H. Mansfield,
Deputy Secretary of Veterans Affairs.

[FR Doc. E7-5331 Filed 3-22-07; 8:45 am]

BILLING CODE 8320-01-P